ENVIRONMENTAL PROTECTION AGENCY

40 CFR Part 52

[EPA-R03-OAR-2011-0288; FRL-9468-4]

Approval and Promulgation of Air Quality Implementation Plans; Pennsylvania; Control of Particulate Matter Emissions From the Operation of Outdoor Wood-Fired Boilers

AGENCY: Environmental Protection Agency (EPA).

ACTION: Final rule.

SUMMARY: EPA is approving a State Implementation Plan (SIP) revision submitted by the Commonwealth of Pennsylvania. This SIP revision pertains to the control of particulate matter emissions from the operation of outdoor wood-fired boilers (OWBs). EPA is approving this revision to reduce particular matter emissions from the operation of outdoor wood-fired boilers in accordance with the requirements of the Clean Air Act (CAA).

DATES: Effective Date: This final rule is effective on October 20, 2011.

ADDRESSES: EPA has established a docket for this action under Docket ID Number EPA-R03-OAR-2011-0288. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Rose Quinto, (215) 814-2182, or by e-mail at quinto.rose@epa.gov.

SUPPLEMENTARY INFORMATION:

I. Background

On July 15, 2011 (76 FR 41742), EPA published a notice of proposed rulemaking (NPR) for the Commonwealth of Pennsylvania. The NPR proposed approval for the control of particulate matter emissions from the operation of OWBs. The formal SIP revision was submitted by the Pennsylvania Department of the Environmental Protection (PADEP) on October 20, 2010. No public comments were received on the NPR.

II. Summary of SIP Revision

The SIP revision adds definitions and terms to Title 25 of the Pennsylvania Code (25 Pa. Code) Chapter 121.1, relating to definitions, used in the substantive provision of this SIP revision. In addition, the SIP revision adds a new regulation to 25 Pa. Code Chapter 123 (Standards for Contaminants) Particulate Matter Emissions, Section 123.14 (Outdoor Wood-Fired Boilers). The emissions standard established in this SIP revision is the Phase 2 emissions standard described in the EPA voluntary OWB program. The SIP revision is also based on the Northeast States for Coordinated Air Use Management (NESCAUM) model rule.

The new regulation (Section 123.14) applies to the following: (1) To a person, manufacturer, supplier or distributor who sells, offers for sale, leases or distributes an outdoor wood-fired boiler for use; (2) a person who installs an outdoor wood-fired boiler; and (3) a person who purchases, receives, leases, owns, uses or operate an outdoor wood-fired boiler. The new regulation consists of the following: (1) Exemptions for a non-Phase 2 OWB; (2) Phase 2 OWB provisions; (3) setback requirements for new Phase 2 OWBs; (4) stack height requirements for new Phase 2 OWBs; (5) allowed fuels; (6) prohibited fuels; and (7) applicable laws and regulatory requirements. Other specific requirements for the control of particulate matter emissions from the operation of OWBs and the rationale for EPA's proposed action are explained in the NPR and will not be restated here.

III. Final Action

EPA is approving 25 Pa. Code Chapter 121.1, relating to definitions used in the substantive provision of this SIP revision and the new regulation pertaining to 25 Pa. Code Chapter 123 (Standards for Contaminants) Particulate Matter Emissions, Section 123.14 (Outdoor Wood-Fired Boilers) as revisions to the Pennsylvania SIP.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the state, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by November 21, 2011. Filing a petition for reconsideration by the Administrator of this final rule does not affect the finality of this action for the purposes of judicial review nor does it extend the time within which a petition for judicial review may be filed, and shall not postpone the effectiveness of such rule or action. This action, pertaining to Pennsylvania's control of particulate matter emissions from the operation of outdoor wood-fired boilers, may not be challenged later in proceedings to enforce its requirements. (See section 307(b)(2).)

List of Subjects in 40 CFR Part 52

Environmental protection, Air pollution control, Incorporation by reference, Particulate matter, Reporting and recordkeeping requirements.

Dated: August 31, 2011.
W.C. Early,
Acting, Regional Administrator, Region III.

40 CFR part 52 is amended as follows:

PART 52—[AMENDED]

1. The authority citation for part 52 continues to read as follows:

Authority: 42 U.S.C. 7401 et seq.

Subpart NN—Pennsylvania

2. In §52.2020, the table in paragraph (c)(1) is amended by:

a. Revising entry for Section 121.1.

b. Adding entry for Section 123.14 after the existing entry for Section 123.13(a) through (c).

The amendments read as follows:

§52.2020 Identification of plan.

* * * * *

(c) * * *

(1) * * *

State citation | Title/subject | State effective date | EPA approval date | Additional explanation/ § 52.2063 citation
Title 25—Environmental Protection
Article III—Air Resources
Chapter 121 General Provisions
Section 121.1 | Definitions | 12/18/10 | 9/20/11 [Insert page number where the document begins] | Added new definitions and terms. The State effective date is 10/2/10.
* * * * * * *
Chapter 123—Standard for Contaminants
* * * * * * *
Particulate Matter Emissions
* * * * * * * * *
Section 123.14 | Outdoor wood-fired boilers | 10/2/10 | 9/20/11 [Insert page number where the document begins] | New section.
* * * * * * *

* * * * *

* * * * *

[FR Doc. 2011-24099 Filed 9-19-11; 8:45 am]

BILLING CODE 6560-50-P